DEPARTMENT OF THE INTERIOR

National Park Service

[NPS-WASO-NAGPRA-NPS0026189; PPWOCRADN0-PCU00RP14.R50000]

Notice of Inventory Completion: Children's Museum of Oak Ridge, Oak Ridge, TN

AGENCY: National Park Service, Interior.

ACTION: Notice.

SUMMARY: The Children's Museum of Oak Ridge (CMOR) has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the CMOR. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the CMOR at the address in this notice by October 10, 2018.

ADDRESSES: Beth Shea, Children's Museum of Oak Ridge, 461 West Outer Drive, Oak Ridge, TN 37830, telephone (865) 482-1074, email bshea@childrensmuseumofoakridge.org.

SUPPLEMENTARY INFORMATION: Notice is here given in accordance with the Native American Graves Protection and Repatriation Act (NAGPRA), 25 U.S.C. 3003, of the completion of an inventory of human remains under the control of the Children's Museum of Oak Ridge, Oak Ridge, TN. The human remains were removed from an unidentified site with the place-name Tellico-Loudoun, TN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the CMOR professional staff in consultation with representatives of the Cherokee Nation, Eastern Band of Cherokee Indians, and the United Keetoowah Band of Cherokee Indians in Oklahoma.

History and Description of the Remains

On an unknown date in 1974 or earlier, human remains representing, at minimum, two individuals were removed from Tellico-Loudoun in TN. CMOR's records indicate that the skull, the mandible, and the loose teeth were collected by the same individual at the same general location in Tellico-Loudoun. The human remains were donated to CMOR by Mr. Jack Rich in 1974, and consist of one mandible with teeth, including loose teeth; and one skull with a notation of “basal flattening by as—infant being carried on a board.” No known individuals were identified. No associated funerary objects are present.

Determinations Made by the Children's Museum of Oak Ridge

Officials of the CMOR have determined that:

• Pursuant to 25 U.S.C. 3001(9), the human remains described in this notice are Native American based on basal flattening of the skull/evidence of cradle boarding.

• Pursuant to 25 U.S.C. 3001(9), the human remains described in this notice represent the physical remains of two individuals of Native American ancestry.

• Pursuant to 25 U.S.C. 3001(2), a relationship of shared group identity cannot be reasonably traced between the Native American human remains and any present-day Indian Tribe.

• Treaties, Acts of Congress, or Executive Orders, indicate that the land from which the Native American human remains were removed is the aboriginal land of the Cherokee Nation; Eastern Band of Cherokee Indians; and United Keetoowah Band of Cherokee Indians in Oklahoma.

• Pursuant to 43 CFR 10.11(c)(1), the disposition of the human remains may be to the Cherokee Nation; Eastern Band of Cherokee Indians; and United Keetoowah Band of Cherokee Indians in Oklahoma.

Additional Requestors and Disposition

Representatives of any Indian Tribe or Native Hawaiian organization not identified in this notice that wish to request transfer of control of these human remains should submit a written request with information in support of the request to Beth Shea, Children's Museum of Oak Ridge, 461 West Outer Drive, Oak Ridge, TN 37830, telephone (865) 482-1074, email bshea@childrensmuseumofoakridge.org, by October 10, 2018. After that date, if no additional requestors have come forward, transfer of control of the human remains to the Cherokee Nation, Eastern Band of Cherokee Indians, and United Keetoowah Band of Cherokee Indians in Oklahoma may proceed.

The CMOR is responsible for notifying the Cherokee Nation, Eastern Band of Cherokee Indians, and United Keetoowah Band of Cherokee Indians in Oklahoma that this notice has been published.

Dated: August 6, 2018.
Melanie O'Brien,
Manager, National NAGPRA Program.

[FR Doc. 2018-19533 Filed 9-7-18; 8:45 am]

BILLING CODE 4312-52-P